DEPARTMENT OF ENERGY

Federal Energy Regulatory Commission

Combined Notice of Filings #1

Take notice that the Commission received the following electric corporate filings:

Docket Numbers: EC17-86-001.

Applicants: Green Mountain Power Corporation.

Description: Notice of Non-Material Change in Circumstances of Green Mountain Power Corporation.

Filed Date: 10/13/17.

Accession Number: 20171013-5187.

Comments Due: 5 p.m. ET 11/3/17.

Docket Numbers: EC17-109-000.

Applicants: ALLETE, Inc., ALLETE Clean Energy, Inc.

Description: Response of ALLETE, Inc., et al. to September 15, 2017 letter requesting additional information.

Filed Date: 10/13/17.

Accession Number: 20171013-5184.

Comments Due: 5 p.m. ET 11/3/17.

Take notice that the Commission received the following electric rate filings:

Docket Numbers: ER12-1923-003; ER10-2334-004; ER12-1924-003; ER11-3406-004; ER11-3407-004; ER10-2897-006; ER12-1865-005; ER12-1925-003.

Applicants: Big Savage, LLC, Big Sky Wind, LLC, EverPower Commercial Services LLC, Highland North LLC, Howard Wind LLC, Krayn Wind LLC, Mustang Hills, LLC, Patton Wind Farm, LLC.

Description: Supplement to June 30, 2017 Triennial Market Power Update for the Northeast Region of the EverPower Companies.

Filed Date: 10/12/17.

Accession Number: 20171012-5153.

Comments Due: 5 p.m. ET 11/2/17.

Docket Numbers: ER15-1456-004; ER11-4634-004; ER17-436-002; ER17-437-004; ER15-1457-004.

Applicants: Beaver Falls, L.L.C., Hazleton Generation LLC, Marcus Hook Energy, L.P., Marcus Hook 50, L.P., Syracuse, L.L.C.

Description: Supplement to June 30, 2017 Triennial Market Power Update for the Northeast Region of Beaver Falls, L.L.C., et al.

Filed Date: 10/12/17.

Accession Number: 20171012-5161.

Comments Due: 5 p.m. ET 11/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2017.
Nathaniel J. Davis, Sr.,
Deputy Secretary.

[FR Doc. 2017-22888 Filed 10-20-17; 8:45 am]

BILLING CODE 6717-01-P